DEPARTMENT OF THE INTERIOR

Notice of Cancellation of Natural Resource Damage Assessment and Restoration Advisory Committee Meeting

AGENCY: Office of the Secretary, Natural Resource Damage Assessment and Restoration Program Office, Department of the Interior.

ACTION: Notice; FACA Committee Meeting Cancellation Announcement.

SUMMARY: At the May 1, 2007 meeting of the Department's Natural Resource Damage Assessment and Restoration Advisory Committee, the Committee reached closure on the final report, which contains the Committee's recommendations to the Department. Therefore, because the Committee has completed its work, as noted in the April 16, 2007 Federal Register Notice (Vol. 72, No. 72, page 19014), there will be no need for the Committee to meet on May 15-17 in Lakewood, Colorado.

Document Availability: The Committee and the public can find helpful background information at the Restoration Program Web site http://restoration.doi.gov. Minutes from prior Committee meetings, subcommittee reports and presentations, reference materials, and the Committee report are all available online at http://restoration.doi.gov/faca.

FOR FURTHER INFORMATION CONTACT: Steve Glomb, U.S. Department of the Interior, Natural Resource Damage Assessment and Restoration Program, Mail Stop MIB 4449, 1849 C Street, NW., Washington, DC 20240; phone 202-208-4863; fax 202-208-2681; or steve_glomb@ios.doi.gov

Dated: May 8, 2007.
Frank M. DeLuise,
Designated Federal Officer, DOI Natural Resource Damage Assessment and Restoration Advisory Committee.

[FR Doc. E7-9118 Filed 5-10-07; 8:45 am]

BILLING CODE 4310-01-P